DEPARTMENT OF TRANSPORTATION

Federal Highway Administration

AGENCY: Federal Highway Administration (FHWA), DOT.

ACTION: Notice of Availability regarding a Finding of No Significant Impact (FONSI): K Street, 24th Street, NW., to 7th Street, NW., Washington, DC.

SUMMARY: The FHWA, in coordination with the District Department of Transportation (DDOT), is issuing a Finding of No Significant Impact (FONSI) for improvements to the K Street Corridor in northwest Washington, DC to efficiently accommodate multi-modal travel, including an exclusive transitway within a portion of the existing street right-of-way.

FOR FURTHER INFORMATION CONTACT: Federal Highway Administration, District of Columbia Division: Mr. Michael Hicks, Environmental/Urban Engineer, 1900 K Street, Suite 510, Washington, DC 20006-1103, Telephone number 202-219-3513, e-mail: michael.hicks@dot.gov; or Mr. Faisal Hameed, Program Manager, Project Development & Environment, Transportation Policy & Planning Administration, District Department of Transportation, 2000 14th Street, NW., 7th Floor, Washington, DC 20009, Regular Office Hours 8:30 a.m. to 4:30 p.m., Telephone number 202-671-2326, e-mail: faisal.hameed@dc.gov.

SUPPLEMENTARY INFORMATION: The FHWA, in coordination with DDOT, is issuing a FONSI for the preferred alternative, Alternative 2, as identified in the Final Environmental Assessment for K Street, 24th Street, NW., to 7th Street, NW., Washington, DC. This project would reconstruct existing K Street to provide an exclusive two-way, two-lane, center transitway, flanked by medians on either side that include bus platforms, and three general purpose lanes in each direction. Parking and loading would be accommodated in the curb lanes during off-peak hours. Bicycles would be accommodated in the curb lanes. The determination that the proposed undertaking will not have a significant impact on the environment has been made pursuant to the Council on Environmental Quality's regulations (40 CFR 1500) for implementing the National Environmental Policy Act.

Electronic Access

An electronic copy of this document may be downloaded, using a computer, modem and suitable communications software, from the Government Printing Office's Electronic Bulletin Board Service at (202) 512-1661. Internet users may reach the Office of the Federal Register's home page at: http://www.nara.gov/fedreg and the Government Printing Office's Web site at: http://www.access.gpo.gov/nara.

The FONSI will be available for public review at: http://www.fhwa.dot.gov/dcdiv/projects.htm or http://www.ddot.dc.gov/kstreetEA.

Authority: 23 U.S.C. 315; 49 CFR 1.48

Mark Kehrli,
Division Administrator.

[FR Doc. E9-29771 Filed 12-14-09; 8:45 am]

BILLING CODE 4910-22-P